DEPARTMENT OF DEFENSE

Department of the Army

Board of Visitors, United States Military Academy; Meeting

AGENCY: United States Military Academy, Department of the Army, DoD.

ACTION: Notice of open meeting.

SUMMARY: In accordance with section 10(a)(2) of the Federal Advisory Committee Act (Pub. L. 92-463), announcement is made of the following committee meeting:

Name of Committee: Board of Visitors, United States Military Academy.

Date: Wednesday, May 15, 2002.

Place of Meeting: Veteran Affairs Conference Room, Room 418, Senate Russell Office Building, Washington, D.C.

Start Time of Meeting: Approximately 10 a.m.

FOR FURTHER INFORMATION CONTACT: Lieutenant Colonel Edward C. Clarke, United States Military Academy, West Point, NY 10996-5000, (845) 938-4200.

SUPPLEMENTARY INFORMATION: Proposed Agenda: Spring Meeting of the Board of Visitors. Review of the Academic, Military, Moral, Ethical, and Physical Programs, and the Bicentennial Campaign at the USMA. All proceedings are open.

Edward C. Clarke,
Lieutenant Colonel, U.S. Army, Executive Secretary, USMA Board of Visitors.

[FR Doc. 02-9074 Filed 4-12-02; 8:45 am]

BILLING CODE 3710-08-M